LEGAL SERVICES CORPORATION

Sunshine Act Meeting; Notice

Time and Date: The Legal Services Corporation Board of Directors' Search Committee for LSC President (“Search Committee” or “Committee”) will meet on November 29, 2010. The meeting will begin at 12 p.m. (Eastern Time) and continue until conclusion of the Committee's agenda.

Location: Sidley and Austin, LLP, 1501 K Street, NW., Washington, DC 20005.

Status of Meeting: Closed. The meeting of the Search Committee will be closed to the public pursuant to a vote of the Board of Directors authorizing the Committee to interview select candidates for the position of LSC President. [No new paragraph here] Such closure is authorized by the relevant provisions of the Government in the Sunshine Act [5 U.S.C. 552b(c)(6)] and LSC's implementing regulation 45 CFR 1622.5(e).¹

¹ 45 CFR 1622.5(e) protects information the disclosure of which would constitute a clearly unwarranted invasion of personal privacy.

The transcript of any portions of the closed session falling within the relevant provision of the Government in Sunshine Act, 5 U.S.C. 552b(c)(6), and LSC's implementing regulation, 45 CFR 1622.5(e), will not be available for public inspection. The transcript of any portions not falling within either of these provisions will be available for public inspection.

Matters to be Considered:

Closed Session

1. Approval of Agenda.

2. Review of applications regarding candidates for the position of LSC President.

3. Consider and act on other business.

4. Consider and act on adjournment of meeting.

Contact Person for Information: Kathleen Connors, Executive Assistant to the President, at (202) 295-1500. Questions may be sent by electronic mail to FR_NOTICE_QUESTIONS@lsc.gov.

Special Needs: Upon request, meeting notices will be made available in alternate formats to accommodate visual and hearing impairments. Individuals who have a disability and need an accommodation to attend the meeting may notify Kathleen Connors at (202) 295-1500 or FR_NOTICE_QUESTIONS@lsc.gov.

Dated: November 22, 2010.
Patricia D. Batie,
Corporate Secretary.

[FR Doc. 2010-29885 Filed 11-23-10; 11:15 am]

BILLING CODE 7050-01-P